DEPARTMENT OF COMMERCE

Foreign-Trade Zones Board

[B-69-2013]

Foreign-Trade Zone (FTZ) 32—Miami, Florida; Notification of Proposed Production Activity; Almod Diamonds, Ltd. (Jewelry and Precious Stones); Miami, Florida

The Greater Miami Foreign-Trade Zone, Inc., grantee of FTZ 32, submitted a notification of proposed production activity to the FTZ Board on behalf of Almod Diamonds, Ltd. (ADL), located in Miami, Florida. The notification conforming to the requirements of the regulations of the FTZ Board (15 CFR 400.22) was received on June 21, 2013.

The ADL facility is located within Site 1 of FTZ 32. The facility is used for the production (restoration and repair) of jewelry comprised of precious metals and gemstones. Pursuant to 15 CFR 400.14(b), FTZ activity would be limited to the specific foreign-status materials and components and specific finished products described in the submitted notification (as described below) and subsequently authorized by the FTZ Board.

Production under FTZ procedures could exempt ADL from customs duty payments on the foreign status materials and components used in export production. On its domestic sales, ADL would be able to choose the duty rates during customs entry procedures that apply to jewelry, precious metals, gemstones, pearls, and related scrap (free—13.5%) for the foreign status inputs noted below. Customs duties also could possibly be deferred or reduced on foreign status production equipment.

The components and materials sourced from abroad include: jewelry of base metals (e.g., silver, gold, platinum, palladium) or precious/semi-precious stones; other cut precious stones; pearls; and imitation jewelry (duty rate ranges from free to 13.5%).

Public comment is invited from interested parties. Submissions shall be addressed to the FTZ Board's Executive Secretary at the address below. The closing period for their receipt is August 14, 2013.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

FOR FURTHER INFORMATION CONTACT: Pierre Duy at Pierre.Duy@trade.gov or (202) 482-1378.

Dated: June 27, 2013.
Elizabeth Whiteman,
Acting Executive Secretary.

[FR Doc. 2013-16175 Filed 7-3-13; 8:45 am]

BILLING CODE 3510-DS-P